DEPARTMENT OF ENERGY

Federal Energy Regulatory Commission

[Docket No. ER00-612-001, et al.]

Ameren Services Company, Electric Rate and Corporate Regulation Filings

October 13, 2000.

Take notice that the following filings have been made with the Commission:

1. Ameren Services Company

[Docket No. ER00-612-001]

Take notice that on October 10, 2000, Ameren Services Company (Ameren), on behalf of the Ameren Operating Companies, AmerenUE and Ameren CIPS, tendered for filing a copy of Schedule 4A to the Open Access Transmission Tariff of the Ameren Operating Companies as that Schedule was accepted by letter order of September 18, 2000 in Docket No. ER00-612-000. Schedule 4A has been reformatted to conform with Order No. 614 but with no changes to the text accepted by the Commission.

Ameren seeks an effective date of November 22, 1999 for this reformatted Schedule 4A. Accordingly, Ameren seeks waiver of the Commission's notice requirements.

Copies of the filing have been served on all parties to Docket Nos. ER00-612-000 and ER00-3623-000 and on the Missouri Public Service Commission and the Illinois Commerce Commission.

Comment date: October 31, 2000, in accordance with Standard Paragraph E at the end of this notice.

2. Southern Company Energy Marketing, L.P.

[Docket No. ER97-4166-008]

Take notice that on October 10, 2000, Southern Company Energy Marketing, L.P., tendered for filing an updated market power study in compliance with the Federal Energy Regulatory Commission's order in Southern Company Energy Marketing L.P., 81 FERC ¶ 61,009 (1997).

Comment date: October 31, 2000, in accordance with Standard Paragraph E at the end of this notice.

3. American Electric Power Service Corporation

[Docket No. ER01-67-000]

Take notice that on October 10, 2000, American Electric Power Service Corporation, tendered for filing on behalf of the operating companies of the American Electric Power System (AEP), proposed amendments to the Open Access Transmission Tariff accepted for filing by the Commission in Docket No. ER98-2786-000.

AEP requests waiver of notice to permit an effective date of December 1, 2000, for such amendments.

Copies of the filing have been served upon AEP's transmission customers and the state utility regulatory commissions of Arkansas, Indiana, Kentucky, Louisiana, Michigan, Ohio, Oklahoma, Tennessee, Texas, Virginia and West Virginia.

Comment date: October 31, 2000, in accordance with Standard Paragraph E at the end of this notice.

4. Jersey Central Power & Light Company Metropolitan Edison Company Pennsylvania Electric Company

[Docket No. ER01-68-000]

Take notice that on October 10, 2000, Jersey Central Power & Light Company, Metropolitan Edison Company and Pennsylvania Electric Company tendered for filing notice that effective December 6, 2000, the Service Agreement between GPU Energy, on behalf of Jersey Central Power & Light Company, Metropolitan Edison Company and Pennsylvania Electric Company (jointly referred to as the GPU Operating Companies) and Horizon Energy Company (now PECO Energy Company d/b/a Exelon Energy), dated October 21, 1997 and filed with the Federal Energy Regulatory Commission as Service Agreement No. 87 under FERC Electric Tariff, Original Volume No. 1 is to be canceled.

Notice of the proposed cancellation has been served upon PECO Energy Company d/b/a Exelon Energy.

Comment date: October 31, 2000, in accordance with Standard Paragraph E at the end of this notice.

5. Jersey Central Power & Light Company Metropolitan Edison Company Pennsylvania Electric Company

[Docket No. ER01-69-000]

Take notice that on October 10, 2000, Jersey Central Power & Light Company, Metropolitan Edison Company and Pennsylvania Electric Company (individually doing business as GPU Energy), tendered for filing a Notice of Cancellation of the Service Agreement between GPU Energy and DTE Energy Trading, Inc., FERC Electric Tariff, Original Volume No. 1, Service Agreement No. 93.

GPU Energy requests that cancellation be effective December 6, 2000.

Comment date: October 31, 2000, in accordance with Standard Paragraph E at the end of this notice.

6. Jersey Central Power & Light Company Metropolitan Edison Company Pennsylvania Electric Company

[Docket No. ER01-70-000]

Take notice that on October 10, 2000, Jersey Central Power & Light Company, Metropolitan Edison Company and Pennsylvania Electric Company (individually doing business as GPU Energy), tendered for filing a Notice of Cancellation of the Service Agreement between GPU Service Corporation and The Cincinnati Gas & Electric Company, PSI Energy, Inc. and Cinergy Services, Inc. (referred to as the Cinergy Operating Companies), FERC Electric Tariff, Original Volume No. 1, Service Agreement No. 42.

GPU Energy requests that cancellation be effective December 6, 2000.

Comment date: October 31, 2000, in accordance with Standard Paragraph E at the end of this notice.

7. Jersey Central Power & Light Company, Metropolitan Edison Company, Pennsylvania Electric Company

[Docket No. ER01-71-000]

Take notice that on October 10, 2000, Jersey Central Power & Light Company, Metropolitan Edison Company and Pennsylvania Electric Company (individually doing business as GPU Energy), tendered for filing a Notice of Cancellation of the Service Agreement between GPU Service Corporation and Noram Energy Services, Inc. (now Reliant Energy Services, Inc.), FERC Electric Tariff, Original Volume No. 1, Service Agreement No. 37.

GPU Energy requests that cancellation be effective December 6, 2000.

Comment date: October 31, 2000, in accordance with Standard Paragraph E at the end of this notice.

8. Jersey Central Power & Light Company, Metropolitan Edison Company, Pennsylvania Electric Company

[Docket No. ER01-72-000]

Take notice that on October 10, 2000, Jersey Central Power & Light Company, Metropolitan Edison Company and Pennsylvania Electric Company (individually doing business as GPU Energy), tendered for filing a Notice of Cancellation of the Service Agreement between GPU Service Corporation and New York State Electric & Gas Corporation, FERC Electric Tariff, Original Volume No. 1, Service Agreement No. 20. GPU Energy requests that cancellation be effective December 6, 2000.

Comment date: October 31, 2000, in accordance with Standard Paragraph E at the end of this notice.

9. Jersey Central Power & Light Company, Metropolitan Edison Company, Pennsylvania Electric Company

[Docket No. ER01-73-000]

Take notice that on October 10, 2000, Jersey Central Power & Light Company, Metropolitan Edison Company and Pennsylvania Electric Company (individually doing business as GPU Energy), tendered for filing a Notice of Cancellation of the Service Agreement between GPU Service Corporation and Vastar Power Marketing, Inc. (now Southern Company Energy Marketing L.P.), FERC Electric Tariff, Original Volume No. 1, Service Agreement No. 50.

GPU Energy requests that cancellation be effective December 6, 2000.

Comment date: October 31, 2000, in accordance with Standard Paragraph E at the end of this notice.

10. Cinergy Services, Inc.

[Docket No. ER01-74-000]

Take notice that on October 10, 2000, Cinergy Services, Inc. (Cinergy) tendered for filing a Non-Firm Point-To-Point Service Agreement under Cinergy's Open Access Transmission Service Tariff (OATT) entered into between Cinergy and MidAmerican Energy Company—Retail (MECR).

Cinergy and MECR are requesting an effective date of September 6, 2000.

Comment date: October 31, 2000, in accordance with Standard Paragraph E at the end of this notice.

11. Cinergy Services, Inc.

[Docket No. ER01-75-000]

Take notice that on October 10, 2000, Cinergy Services, Inc. (Cinergy) tendered for filing a Firm Point-To-Point Service Agreement under Cinergy's Open Access Transmission Service Tariff (OATT) entered into between Cinergy and Alliance Energy Services (“Alliance”).

Cinergy and Alliance are requesting an effective date of September 6, 2000.

Comment date: October 31, 2000, in accordance with Standard Paragraph E at the end of this notice.

12. Cinergy Services, Inc.

[Docket No. ER01-76-000]

Take notice that on October 10, 2000, Cinergy Services, Inc. (Cinergy) tendered for filing a Non-Firm Point-To-Point Service Agreement under Cinergy's Open Access Transmission Service Tariff (OATT) entered into between Cinergy and Alliance Energy Services (Alliance).

Cinergy and Alliance are requesting an effective date of September 6, 2000.

Comment date: October 31, 2000, in accordance with Standard Paragraph E at the end of this notice.

13. Cinergy Services, Inc.

[Docket No. ER01-77-000]

Take notice that on October 10, 2000, Cinergy Services, Inc. (Cinergy) tendered for filing a Non-Firm Point-To-Point Service Agreement under Cinergy's Open Access Transmission Service Tariff (OATT) entered into between Cinergy and MidAmerican Energy Company (MECB).

Cinergy and MECB are requesting an effective date of September 6, 2000.

Comment date: October 31, 2000, in accordance with Standard Paragraph E at the end of this notice.

14. Cinergy Services, Inc.

[Docket No. ER01-78-000]

Take notice that on October 10, 2000, Cinergy Services, Inc. (Cinergy) tendered for filing a Firm Point-To-Point Service Agreement under Cinergy's Open Access Transmission Service Tariff (OATT) entered into between Cinergy and MidAmerican Energy Company—Retail (MECR).

Cinergy and MECR are requesting an effective date of September 6, 2000.

Comment date: October 31, 2000, in accordance with Standard Paragraph E at the end of this notice.

15. Cinergy Services, Inc.

[Docket No. ER01-79-000]

Take notice that on October 10, 2000, Cinergy Services, Inc. (Cinergy) tendered for filing a Firm Point-To-Point Service Agreement under Cinergy's Open Access Transmission Service Tariff (OATT) entered into between Cinergy and MidAmerican Energy Company (MECB).

Cinergy and MECB are requesting an effective date of September 6, 2000.

Comment date: October 31, 2000, in accordance with Standard Paragraph E at the end of this notice.

16. California Power Exchange Corporation

[Docket No. ER01-80-000]

Take notice that on October 10, 2000, the California Power Exchange Corporation (CalPX), on behalf of its CalPX Trading Services Division (CTS), filed Amendment No. 5 to the CalPX Trading Services Second Revised Rate Schedule FERC No. 1. The primary purpose of Amendment No. 5 is to streamline Appendix 4 of the Rate Schedule, which contains the Participation Agreement between CTS and its participants. CTS requests an effective date of December 10, 2000, sixty days after the date of this filing. CTS also proposes to clarify that default chargebacks will be billed as administrative fees and proposes a few non-substantive editorial changes.

CTS has served copies of the filing on its participants and on the California Public Utilities Commission and has posted a copy of the filing on its website.

Comment date: October 31, 2000, in accordance with Standard Paragraph E at the end of this notice.

17. California Power Exchange Corporation

[Docket No. ER01-81-000]

Take notice that on October 10, 2000, the California Power Exchange Corporation (CalPX), tendered for filing its Tariff Amendment No. 20. The purpose of Tariff Amendment No. 20 is to clarify that any default charge backs paid on a pro-rata basis by participants will be included on the invoice as an administrative charge.

CalPX requests an effective date of December 10, 2000.

CalPX states that it has served this filing on its participants and on the California Public Utilities Commission and has posted a copy of the filing on its website.

Comment date: October 31, 2000, in accordance with Standard Paragraph E at the end of this notice.

18. Pacific Gas and Electric Company

[Docket No. ER01-82-000]

Take notice that on October 10, 2000, Pacific Gas and Electric Company (PG&E), tendered for filing a Notice of Termination of the Settlement Agreement concerning FERC Docket No. ER89-4-000, between Pacific Gas and Electric Company and Northern California Power Agency, on file with the Commission as PG&E Rate Schedule FERC No. 128.

PG&E has requested certain waivers.

Copies of this filing have been served upon the Northern California Power Agency and the California Public Utilities Commission.

Comment date: October 31, 2000, in accordance with Standard Paragraph E at the end of this notice.

19. Allegheny Power Service Corporation on Behalf of Monongahela Power Company, The Potomac Edison Company, and West Penn Power Company (Allegheny Power)

[Docket No. ER01-84-000]

Take notice that on October 10, 2000, Allegheny Power Service Corporation on behalf of Monongahela Power Company, The Potomac Edison Company and West Penn Power Company (Allegheny Power), tendered for filing Service Agreement No. 327 to add Dominion Retail, Inc., to Allegheny Power's Open Access Transmission Service Tariff.

The proposed effective date under the agreement is October 9, 2000.

Copies of the filing have been provided to the Public Utilities Commission of Ohio, the Pennsylvania Public Utility Commission, the Maryland Public Service Commission, the Virginia State Corporation Commission, and the West Virginia Public Service Commission.

Comment date: October 31, 2000, in accordance with Standard Paragraph E at the end of this notice.

20. Indianapolis Power & Light Company

[Docket No. ER01-85-000]

Take notice that on October 10, 2000, Indianapolis Power & Light Company (IPL), tendered for filing an executed service agreement for Non-Firm Point-to-Point transmission service with Duke Energy Trading and Marketing, L.L.C., under IPL's Open Access Transmission Tariff. IPL also submits an index of customers.

Comment date: October 31, 2000, in accordance with Standard Paragraph E at the end of this notice.

21. Pacific Gas and Electric Company

[Docket No. ER01-86-000]

Take notice that on October 10, 2000, Pacific Gas and Electric Company (PG&E), tendered for filing a Service Agreement for Wholesale Distribution Service between The City of Sunnyvale California (Sunnyvale), and Pacific Gas and Electric Company (Service Agreement) pursuant to the PG&E Wholesale Distribution Tariff (WDT).

The Service Agreement facilitates payment of PG&E's costs of designing, constructing, procuring, testing, placing in operation, owning, operating and maintaining the customer-specific facilities requested by Sunnyvale required for service over PG&E's distribution facilities.

PG&E has requested certain waivers.

Copies of this filing have been served upon Sunnyvale and the California Public Utilities Commission.

Comment date: October 31, 2000, in accordance with Standard Paragraph E at the end of this notice.

22. Green Mountain Power Corporation

[Docket No. ER01-88-000]

Take notice that on October 10, 2000, Green Mountain Power Corporation (GMP), tendered a for filing a notice of cancellation and a service agreement for Vermont Electric Cooperative, Inc., to take service under its Network Integration Transmission Service tariff.

Copies of this filing have been served on each of the affected parties, the Vermont Public Service Board and the Vermont Department of Public Service.

Comment date: October 31, 2000, in accordance with Standard Paragraph E at the end of this notice.

23. Arizona Public Service Company

[Docket No. ER01-87-000]

Take notice that on October 10, 2000, Arizona Public Service Company (the Company), tendered for filing an informational report on refunds of overbilled amounts to certain wholesale customers through the Company's FERC Fuel Adjustment Clause.

Copies of this filing have been served upon the affected parties as follows:

Customer name | APS-FPC/FERC rate schedule ¹
Electrical District No. 3 (ED-3) | 12
Tohono O'odham Utility Authority | 52
Wellton-Mohawk Irrigation and Drainage District (Wellton-Mohawk) | 58
Arizona Power Authority (APA) | 59
Colorado River Indian Irrigation Project | 65
Electrical District No. 1 (ED-1) | 68
Town of Wickenburg (Wickenburg) | 74
Southern California Edison Company (SCE) | 120
Electrical District No. 6 (ED-6) | 126
Electrical District No. 7 (ED-7) | 128
Electrical District No. 8 (ED-8) | 140
Aguila Irrigation District (AID) | 141
McMullen Valley Water Conservation and Drainage District (MVD) | 142
Tonopah Irrigation District (TID) | 143
Harquahala Valley Power District (HVPD) | 153
Buckeye Water Conservation and Drainage District (Buckeye) | 155
Roosevelt Irrigation District (RID) | 158
Maricopa County Municipal Water Conservation District (MCMWCD) | 168
City of Williams (Williams) | 192
San Carlos Indian Irrigation Project (SCIIP) | 201
Maricopa County Municipal WCD at Lake Pleasant (MCMLake) | 209
¹ FERC Rate Schedules shown are those that were in effect during the refund period.

the California Public Utilities Commission and the Arizona Corporation Commission.

Comment date: October 31, 2000, in accordance with Standard Paragraph E at the end of this notice.

24. Madison Gas and Electric Company

[Docket No. ER01-96-000]

Take notice that on October 10, 2000, Madison Gas and Electric Company (MGE), tendered for filing a service agreement under MGE's Market-Based Power Sales Tariff with Tenaska Power Services Company.

MGE requests the agreement be effective on the date it was filed with the FERC.

Comment date: October 31, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-26957 Filed 10-19-00; 8:45 am]

BILLING CODE 6717-01-P